DEPARTMENT OF TRANSPORTATION

Federal Aviation Administration

14 CFR Part 39

[Docket No. FAA-2016-9438; Directorate Identifier 2016-NM-109-AD; Amendment 39-18873; AD 2017-09-11]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model DHC-8-400 series airplanes. This AD was prompted by reports of interruptions in the airstair door operation. This AD requires repetitive inspections and modification of the handrail hardware. We are issuing this AD to address the unsafe condition on these products.

DATES: This AD is effective June 29, 2017.

The Director of the Federal Register approved the incorporation by reference of a certain publication listed in this AD as of June 29, 2017.

ADDRESSES: For service information identified in this final rule, contact Bombardier, Inc., Q-Series Technical Help Desk, 123 Garratt Boulevard, Toronto, Ontario M3K 1Y5, Canada; telephone 416-375-4000; fax 416-375-4539; email thd.qseries@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2016-9438.

Examining the AD Docket

You may examine the AD docket on the Internet at http://www.regulations.gov by searching for and locating Docket No. FAA-2016-9438; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Cesar A. Gomez, Aerospace Engineer, Airframe and Mechanical Systems Branch, ANE-171, FAA, New York Aircraft Certification Office (ACO), 1600 Stewart Avenue, Suite 410, Westbury, NY 11590; telephone 516-228-7318; fax 516-794-5531.

SUPPLEMENTARY INFORMATION:

Discussion

We issued a notice of proposed rulemaking (NPRM) to amend 14 CFR part 39 by adding an AD that would apply to certain Bombardier, Inc. Model DHC-8-400 series airplanes. The NPRM published in the Federal Register on December 16, 2016 (81 FR 91058) (“the NPRM”). The NPRM was prompted by reports of interruptions in the airstair door operation. The NPRM proposed to require repetitive inspections and modification of the handrail hardware. We are issuing this AD to ensure the ability to evacuate passengers through the airstair door in the event of an emergency.

Transport Canada Civil Aviation (TCCA), which is the aviation authority for Canada, has issued Canadian Airworthiness Directive CF-2015-02, dated January 27, 2015 (referred to after this as the Mandatory Continuing Airworthiness Information, or ”the MCAI”), to correct an unsafe condition for certain Bombardier, Inc. Model DHC-8-400, -401, and -402 airplanes. The MCAI states:

A number of airstair door operation interruptions have been reported. In one case, the airstair door could not be opened. It was found that the airstair door handrail holder bracket was deformed and became lodged into the adjacent wardrobe bulkhead, which prevented the door from opening.

On airstair doors with Jetway Compatible option, a deformed handrail holder bracket or a failure of the pin retainer bracket can interfere with the operation of the airstair door and prevent it from opening.

The airstair door is classified as an emergency exit. The inability to open an emergency exit could impede evacuation in the event of an emergency.

This [Canadian] AD mandates the repetitive inspection of airstair door handrail hardware, and the modification of the handrail stowage hardware.

Required actions include applicable corrective actions (replacing or removing brackets, installing lanyards, adjusting pins, and adjusting affected parts of the assembly). You may examine the MCAI in the AD docket on the Internet at http://www.regulations.gov by searching for and locating Docket No. FAA-2016-9438.

Comments

We gave the public the opportunity to participate in developing this AD. We considered the comment received. The Air Line Pilots Association, International supported the NPRM.

Conclusion

We reviewed the relevant data, considered the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Bombardier, Inc. issued Service Bulletin 84-52-79, Revision C, dated February 2, 2016. This service information describes procedures for a general visual inspection to detect deformities and cracks of the forward and aft handle holder brackets on the airstair handrail; a detailed visual inspection of the forward and aft pin retainer brackets for the condition of the lanyards and the pins; a check for unobstructed movement of the pin retainer brackets; and rework of the airstair door handrail to prevent damage to the bulkhead and to prevent the door from jamming once the handrails are stowed. This service information is reasonably available because the interested parties have access to it through their normal course of business or by the means identified in the ADDRESSES section.

Costs of Compliance

We estimate that this AD affects 82 airplanes of U.S. registry.

We estimate the following costs to comply with this AD:

Estimated Costs
Action | Labor cost | Parts cost | Cost per product | Cost on U.S. operators
Repetitive inspections | 1 work-hour × $85 per hour = $85 per inspection cycle | $0 | $85 per inspection cycle | $6,970 per inspection cycle.
Modification | 3 work-hours × $85 per hour = $255 | 1,556 | $1,811 | $148,502.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-09-11 Bombardier, Inc.: Amendment 39-18873; Docket No. FAA-2016-9438; Directorate Identifier 2016-NM-109-AD.

(a) Effective Date

This AD is effective June 29, 2017.

(b) Affected ADs

None.

(c) Applicability

This AD applies to Bombardier, Inc. Model DHC-8-400, -401, and -402 airplanes, certificated in any category, serial numbers 4001 through 4473 inclusive, equipped with Bombardier ModSum 4-422100 or ModSum 4-458687 (Jetway Compatible Passenger Airstair Door).

(d) Subject

Air Transport Association (ATA) of America Code 52, Doors.

(e) Reason

This AD was prompted by reports of interruptions in the airstair door operation, including one case where the door would not open. The airstair door is classified as an emergency exit. We are issuing this AD to ensure the ability to evacuate passengers through the airstair door in the event of an emergency.

(f) Compliance

Comply with this AD within the compliance times specified, unless already done.

(g) Repetitive Inspections of the Forward and Aft Handle Holder Brackets and Forward and Aft Pin Retainer Brackets, Repetitive Checks, and Corrective Actions

Within 600 flight hours after the effective date of this AD, perform a general visual inspection of the forward and aft handle holder brackets for damage, such as visible cracks and deformation; a detailed visual inspection of the forward and aft pin retainer brackets to make sure that both lanyards are installed and to make sure that the head of each pin is installed correctly; a check of the pin retainer brackets for unobstructed movement; an operational check of the forward passenger door; and all applicable corrective actions; in accordance with PART A1 and PART A2 of the Accomplishment Instructions of Bombardier Service Bulletin 84-52-79, Revision C, dated February 2, 2016, except as required by paragraphs (g)(1), (g)(2), and (g)(3) of this AD. Do all applicable corrective actions before further flight. Repeat the inspections and checks thereafter at intervals not to exceed 600 flight hours until the terminating action required by paragraph (h) of this AD is accomplished.

(1) If one or both lanyards are missing, before further flight, install lanyards as specified in, and in accordance with PART A1 of the Accomplishment Instructions of Bombardier Service Bulletin 84-52-79, Revision C, dated February 2, 2016.

(2) If a pin is not installed correctly, as specified in PART A1 of the Accomplishment Instructions of Bombardier Service Bulletin 84-52-79, Revision C, dated February 2, 2016, before further flight, adjust the affected pin until it is installed correctly as specified in, and in accordance with, PART A1 of the Accomplishment Instructions Bombardier Service Bulletin 84-52-79, Revision C, dated February 2, 2016.

(3) If a pin retainer bracket does not rotate freely, before further flight, adjust affected parts of the assembly until the pin retainer bracket rotates freely as specified in, and in accordance with, PART A1 of the Accomplishment Instructions of Bombardier Service Bulletin 84-52-79, Revision C, dated February 2, 2016.

(h) Terminating Action

Within 6,000 flight hours or 36 months, whichever occurs first, after the effective date of this AD: Incorporate Bombardier ModSum 4-903234 to modify the installed jetway compatible handrail stowage bracket, in accordance with PART A3 of the Accomplishment Instructions of Bombardier Service Bulletin 84-52-79, Revision C, dated February 2, 2016. Incorporating Bombardier ModSum 4-903234 terminates the actions required by paragraph (g) of this AD.

(i) Credit for Previous Actions

This paragraph provides credit for actions required by paragraph (g) of this AD, if those actions were performed before the effective date of this AD using the service information identified in paragraph (i)(1), (i)(2), or (i)(3) of this AD.

(1) Bombardier Service Bulletin 84-52-79, dated May 1, 2014.

(2) Bombardier Service Bulletin 84-52-79, Revision A, dated November 18, 2014.

(3) Bombardier Service Bulletin 84-52-79, Revision B, dated April 8, 2015.

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k)(2) of this AD. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian A D CF-2015-02, dated January 27, 2015, for related information. This MCAI may be found in the AD docket on the Internet at http://www.regulations.gov by searching for and locating Docket No. FAA-2016-9438.

(2) For more information about this AD, contact the Program Manager, Continuing Operational Safety, FAA, New York ACO, 1600 Stewart Avenue, Suite 410, Westbury, NY 11590; telephone 516-228-7300; fax 516-794-5531.

(3) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 84-52-79, Revision C, dated February 2, 2016.

(ii) Reserved.

(3) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 27, 2017.
Paul Bernado,
Acting Manager, Transport Airplane Directorate, Aircraft Certification Service.

[FR Doc. 2017-10339 Filed 5-24-17; 8:45 am]

BILLING CODE 4910-13-P